NUCLEAR REGULATORY COMMISSION

10 CFR Parts 150, 170 and 171

RIN: 3150-AG73

Revision of Fee Schedules; Fee Recovery for FY 2001; Correction

AGENCY: Nuclear Regulatory Commission.

ACTION: Final rule; correction.

SUMMARY: This document corrects a final rule appearing in the Federal Register on June 14, 2001 (66 FR 32452), concerning the licensing, inspection, and annual fees charged to NRC applicants and licensees in compliance with the Omnibus Budget Reconciliation Act of 1990, as amended. This action is necessary to correct typographical and printing errors.

EFFECTIVE DATE: August 13, 2001.

FOR FURTHER INFORMATION CONTACT: Glenda Jackson, Office of the Chief Financial Officer, U.S. Nuclear Regulatory Commission, Washington, DC 20555-0001, Telephone 301-415-6057.

SUPPLEMENTARY INFORMATION:

1. On page 32459, in the second column, under Response, in the first sentence, the word “rule” is added after the word “proposed”.

2. On page 32461, in the second column, in the first sentence of the second full paragraph, the word “proposed” is removed.

3. On page 32463, in the first column, in the last sentence of the fourth full paragraph, after the words “Section III., Final Action”, add “1.(a)”.

4. On page 32465, Table VI is corrected to read as follows:

Table VI.—Effort Factors for Fuel Facilities
Facility type | Number of facilities | Effort factors: Safety | Effort factors: Safeguards
High Enriched Uranium Fuel | 2 | 91 (33.5%) | 76 (55.1%)
Enrichment | 2 | 70 (25.7%) | 34 (24.6%)
Low Enriched Uranium Fuel | 4 | 85 (31.3%) | 23 (16.7%)
UF6 Conversion | 1 | 12 (4.4%) | 0 (0%)
Limited Operations Facility | 1 | 8 (2.9%) | 3 (2.2%)
Others | 1 | 6 (2.2%) | 2 (1.4%)

5. On page 32468, in the second column, in paragraph (1), the amount “$487.4” is replaced with “$487.3.”

§ 170.21 [Corrected]

6. In § 170.21, on page 32470, paragraphs (a), (b), and (c) should appear as listed text as part of footnote 4.

7. On page 32480, in the first column, the third sentence is corrected to read as follows:

* * * * *

The revised fees were based on the 25 percent increase in average total fees assessed to other materials licensees since the small entity fees were first established and changes that had occurred in the fee structure for materials licensees over time.* * *

8. On page 32480, in the second column, the heading for Attachment 1 to Appendix A is corrected to read: “Attachment 1 to Appendix A—Nuclear Regulatory Commission Small Entity Compliance Guide, Fiscal Year 2001”.

Dated at Rockville, Maryland, this 29th day of June, 2001.
For the Nuclear Regulatory Commission.
Jesse L. Funches,
Chief Financial Officer.

[FR Doc. 01-16915 Filed 7-5-01; 8:45 am]

BILLING CODE 7590-01-P